DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 23, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 02, 2020.
Donald P. Burger,
Chief, General Approvals and Permits Branch.

Special Permits Data
Application No. | Applicant | Regulation(s) affected | Nature of the special permits thereof
10704-M | Airgas USA, LLC | 172.200, 172.400, 172.500, 173.302(a), 174.1, 177.800 | To modify the special permit to authorize additional 2.2 hazmat. (modes 1, 2, 3, 4).
11180-M | Affival Inc | 172.300, 172.500, 172.400, 173.24(c) | To modify the special permit to authorize a new optional method to close the longitudinal seam of the metal tube by welding. (modes 1, 2, 3).
11215-M | Orbital Sciences Corporation | 172.300, 172.600, 172.400, 172.500, 173.62, 175.75 | To modify the special permit to authorize additional hazmat contained in a new launch vehicle. (mode 4).
11380-M | Baker Hughes Oilfield Operations LLC | 173.302a(a) | To modify the special permit to authorize design changes/improvements in the authorized cylinders. (modes 1, 2, 3, 4).
12479-M | Luxfer Inc | 173.302a(a)(1) | To modify the special permit to authorize passenger carrying vessel as a mode of transport.
14453-M | FIBA Technologies, Inc | 180.209(a), 180.209(b), 180.209(b)(1)(iv) | To modify the special permit to authorize an additional 2.1 hazmat. (modes 1, 2, 3).
14584-M | Techknowserv Corp | 173.302a(b)(2), 173.302a(b)(3), 173.302a(b)(4), 173.302a(b)(5), 180.205(c), 180.205(f), 180.205(g), 180.205(i), 180.209(a), 180.209(a) | To modify the special permit to authorize additional cylinders to be requalified by these methods. (modes 1, 2, 3).
14601-M | Gulbrandsen Chemicals, Inc | 173.302a(a)(1) | To modify the special permit to authorize the option of removing the safety relief system from non-DOT specification spherical pressure vessels manufactured in accordance with the special permit. (modes 1, 2, 3).
15536-M | Techknowserv Corp | 180.507, 180.509, 180.519(a) | To modify the special permit to authorize additional tank cars. (modes 1, 2, 3).
15610-M | Techknowserv Corp | 173.302a(b)(2), 173.302a(b)(3), 173.302a(b)(4), 173.302a(b)(5), 180.205(c), 180.205(f), 180.205(g), 180.205(i), 180.209(a), 180.213 | To modify the special permit to authorize additional cylinders. (modes 1, 2, 3).
20391-M | Hexagon Purus LLC | 173.301(f), 173.302(a) | To modify the special permit to authorize additional cylinders with a volume up to 3000 liters. (modes 1, 2, 3).
20949-M | Sigma-Aldrich, Inc | 178.601(k) | To modify the special permit to remove the requirement to carry a copy of the SP aboard each vehicle, vessel or aircraft and to remove the requirement to maintain a copy of the SP at each facility offering or reoffering packages covered by the SP. (modes 1, 2, 3, 4, 5).

[FR Doc. 2020-07369 Filed 4-7-20; 8:45 am]

BILLING CODE 4909-60-P